DEPARTMENT OF HEALTH AND HUMAN SERVICES

Centers for Medicare & Medicaid Services

[Document Identifier: CMS-R-65 and CMS-10142]

Agency Information Collection Activities: Submission for OMB Review; Comment Request

Correction

In notice document 2024-30444 beginning in the third column on page 104182 in the issue of Friday, December 20, 2024, make the following correction:

On page 104182, in the third column, under the dates section, replace the text [INSERT DATE 30 DAYS AFTER DATE OF PUBLICATION IN THE FEDERAL REGISTER] with “January 21, 2025”.

[FR Doc. C1-2024-30444 Filed 1-6-25; 8:45 am]

BILLING CODE 0099-10-D